CONSUMER PRODUCT SAFETY COMMISSION

Conclusion of Consumer Product Safety Commission International Trade Data System Initial Test Concerning the Electronic Filing of Targeting/Enforcement Data

AGENCY: Consumer Product Safety Commission.

ACTION: Notice.

SUMMARY: The U.S. Consumer Product Safety Commission (Commission or CPSC) in consultation with U.S. Customs & Border Protection (CBP) previously announced a test to assess the electronic filing of certain data via the Partner Government Agency (PGA) Message Set to the CBP-authorized Electronic Data Interchange (EDI) system known as the Automated Commercial Environment (ACE). Test participants collaborated with CBP and CPSC in examining the effectiveness of the “single window” capability and assessing the concept of a data registry (the Product Registry), maintained by CPSC. CBP and CPSC have determined that the test, which the CPSC refers to as the “eFiling Alpha Pilot,” was successful, in that participating firms were able to file CPSC's PGA Message Set data as part of an ACE entry, CPSC was able to receive the PGA Message Set data from CBP, and CPSC was able to accept the data into CPSC's system for risk analysis. Accordingly, this document announces that the initial test, the eFiling Alpha Pilot, will conclude on December 31, 2016.

DATES: The CPSC test will conclude on December 31, 2016.

ADDRESSES: Comments on the test or concerning this notice should be submitted through electronic mail to: efilingpilot@cpsc.gov.

FOR FURTHER INFORMATION CONTACT: Questions regarding the test should be directed to Jim Joholske, Deputy Director, Office of Import Surveillance, U.S. Consumer Product Safety Commission, (301) 504-7527, efilingpilot@cpsc.gov. Questions sent by electronic mail should contain the subject heading “Question re PGA Message Set Test.” For technical questions regarding ACE or ABI transmissions, or the PGA message set data transmission, please contact your assigned CBP client representative. Interested parties without an assigned client representative should submit an email to Steven Zaccaro at steven.j.zaccaro@cbp.dhs.gov.

SUPPLEMENTARY INFORMATION:

I. Background

A. The Automated Commercial Environment

ACE is an automated and electronic system for commercial trade processing that is intended to streamline business processes, facilitate growth in trade, ensure cargo security, and foster participation in global commerce, while ensuring compliance with U.S. laws and regulations, and reducing costs for CBP and all of its communities of interest. The Automated Broker Interface (ABI) is a software interface to ACE. Commercial trade participants who want to file entries in ACE use ABI to electronically file required import data with CBP. ABI transfers trade-submitted data into ACE. CBP has developed ACE as the “single window” for the trade community to comply with the International Trade Data System (ITDS) requirement established by the SAFE Port Act of 2006. The PGA Message Set enables additional trade-related data specified by PGAs to be entered in one location.

B. ITDS Goals and CBP's Authority To Conduct National Customs Automation Program Tests

The ITDS is an electronic data interchange system whose goals include eliminating redundant information requirements, efficiently regulating the flow of commerce, and effectively enforcing laws and regulations relating to international trade by establishing a single portal system, operated by CBP, for the collection and distribution of standard electronic import and export data required by participating federal agencies. All federal agencies that require documentation for clearance or licensing the importation of cargo are required to participate in ITDS. The Customs Modernization provisions in the North American Free Trade Agreement Implementation Act provide the Commissioner of CBP with authority to conduct limited test programs or procedures designed to evaluate planned components of the National Customs Automation Program (NCAP), which includes ACE.

C. Test Purpose and Goal

CPSC's PGA Message Set test, described in an August 21, 2015 Federal Register Notice, was developed to further ITDS and NCAP goals. 80 FR 50827 (Aug. 21, 2015) (August 2015 Test Notice). Information and feedback from the test will be used to evaluate electronic filing capability and inform the Commission in striving to improve and streamline the import process going forward. The goal of electronic filing of targeting/enforcement data is to facilitate compliant trade as well as sharpen CPSC's focus on noncompliant trade. CPSC intends to use targeting/enforcement data to review consumer product entry requirements and allow for earlier risk-based admissibility decisions by CPSC staff. Additionally, because it is electronic, the PGA Message Set could eliminate the necessity for submission and subsequent handling of paper documents. Piloting electronic filing as a means to transition away from paper-based filing is a priority initiative of the PGAs to meet the stated “single window” implementation timeline.

II. CPSC's PGA Message Set Test

A. Description of the Test

CPSC focused this initial test on electronic filing of five targeting/enforcement data elements (CPSC data), using the PGA Message Set. The test evaluated participant's ability to electronically file targeting/enforcement data for regulated finished consumer products under CPSC's jurisdiction and three specified finished products included on the Substantial Product Hazard List established under section 15(j) of the CPSA, and CPSC's ability to accept targeting/enforcement data into CPSC's risk assessment methodology program (the RAM).

Pilot participants had a choice between two different methods to file targeting/enforcement data for products using the PGA Message Set. Participants could either: (1) File the targeting/enforcement data elements with each product at the time of entry (Full PGA Message Set), or (2) file only a reference to targeting/enforcement data stored in a Product Registry maintained by CPSC (Product Registry and Reference PGA Message Set). Participants primarily chose to file data using the Product Registry and Reference PGA Message Set, although we anticipate that several participants will file using the Full PGA Message Set before the pilot concludes. Through their broker, pilot participants submitted targeting/enforcement data through CPSC's PGA Message Set as part of an ACE entry, or ACE entry summary if both entry and entry summary were filed together. Participants filed PGA Message Set data with each applicable entry filed with CBP. To file CPSC PGA Message Set data through ACE, associated brokers successfully implemented application software updates.

Once filed in ACE, CBP made the PGA Message Set data, along with entry data, available to CPSC for validation. CPSC was able to receive PGA Message Set data from CBP, where applicable, match a reference number with previously-filed targeting/enforcement data in the Product Registry, and to accept the enforcement/targeting data elements into CPSC's RAM. Moreover, participants that chose to use the Product Registry were able to file the requisite targeting/enforcement data into the Product Registry for specific products, and were able to successfully provide a reference number to this data using the PGA Message Set during the entry process, rather than entering all such data elements each time the product was imported.

B. Conclusion of the Test

As stated in the August 2015 Test Notice, once operational, the test was expected to run for approximately six months or until concluded or extended by the issuance of a Federal Register notice announcing the extension or conclusion of this test. This notice announces that CPSC and CBP have determined that ACE is capable of accepting electronic targeting/enforcement data, and electronic Product Registry reference information, through CPSC's PGA Message Set. CPSC is capable of receiving PGA Message Set data, matching reference data to previously-filed targeting/enforcement data in the Product Registry, and accepting targeting/enforcement data and entry data into CPSC's RAM program for further risk evaluation. CPSC also determined that participants are able to enter the requisite targeting/enforcement data elements for each product into a Product Registry, receive a reference number, and file such reference number in CPSC's PGA Message Set each time the product is referenced in an ACE entry. Having found the eFiling Alpha Pilot to be successful, CPSC and CBP are concluding the test effective December 31, 2016.

Upon the date the test concludes, trade members will no longer be authorized to file CPSC data in ACE. CBP will undertake efforts to reject or prevent the filing of CPSC data in ACE.

III. Next Steps for CPSC's PGA Message Set Testing

After the conclusion of the test, CPSC will provide a forum to consider what CPSC staff and participants learned from the eFiling Alpha Pilot and how best to structure a more robust “beta” test of electronic filing. Based on the review of the eFiling Alpha Pilot, CPSC staff will provide options regarding a “beta” testing phase for Commission consideration.

Dated: November 17, 2016.
Todd A. Stevenson,
Secretary, Consumer Product Safety Commission.

[FR Doc. 2016-28172 Filed 11-22-16; 8:45 am]

BILLING CODE 6355-01-P